DEPARTMENT OF AGRICULTURE

Commodity Credit Corporation

Farm Service Agency

[Docket ID FSA-2024-0011]

Notice; Marketing Assistance for Specialty Crops

AGENCY: Commodity Credit Corporation and Farm Service Agency, U.S. Department of Agriculture (USDA).

ACTION: Notice and application extension.

SUMMARY: The Farm Service Agency (FSA) is announcing changes to the available funding, payment limitation, and application deadline for Marketing Assistance for Specialty Crops (MASC).

DATES: FSA county offices will accept applications for MASC until January 10, 2025.

FOR FURTHER INFORMATION CONTACT: Kathy Sayers; telephone: (202) 720-6870; email: Kathy.Sayers@usda.gov. Individuals with disabilities who require alternative means for communication should contact the USDA Target Center at (202) 720-2600 (voice and text telephone (TTY)) or dial 711 for Telecommunications Relay Service (both voice and text telephone users can initiate this call from any telephone).

SUPPLEMENTARY INFORMATION:

Background

FSA announced MASC in a Notice of Funds Availability (NOFA) in the Federal Register on December 10, 2024 (89 FR 99212-99220). The NOFA announced that the MASC application period began on December 10, 2024, and would end on January 8, 2025. This notice is announcing an extension of the application period through January 10, 2025; the extension is intended to provide public notification of the changes announced in this notice in advance of the application period closing.

The NOFA provided that MASC would use up to $2 billion in Commodity Credit Corporation (CCC) funding to provide eligible specialty crop producers with marketing assistance payments that will help them engage in activities that aid in expanding domestic specialty crop markets or in developing new markets for their specialty crops. FSA has determined that an additional $650 million in CCC funding is available for this purpose, so up to $2.65 billion may be used to provide assistance through MASC.

The NOFA also provided that a person or legal entity, other than a joint venture or general partnership, cannot receive, directly or indirectly, more than $125,000 in MASC payments. In this notice, FSA is announcing that the payment limitation will be increased from $125,000 to $900,000. FSA is making this change in response to stakeholder engagement and feedback received after publication of the MASC NOFA. During this time, stakeholders have emphasized the higher marketing costs related to specialty crops due to perishability, transporting, and packaging, which present greater financial challenges maintaining and expanding markets. Stakeholders have also raised concerns that the MASC payment limitation was different than the payment limitation for specialty crops in some previous programs.¹ USDA acknowledges the concerns expressed by stakeholders regarding the inconsistent manner in which program requirements are applied and the impact that this may have on producer expectations regarding eligibility and potential program benefits to support producers in marketing their commodities.

¹ FSA has applied a payment limitation of $900,000 for payments to specialty crop producers under previous programs. For both the Emergency Relief Program (ERP) and ERP 2022, producers were subject to a $900,000 payment limitation for specialty crops if at least 75 percent of the person or legal entity's average adjusted gross income was income derived from farming, ranching, and forestry related activities. For ERP Phase 1, see the NOFA published May 18, 2022 (87 FR 30164-30172); for ERP Phase 2, see 7 CFR 760.1906(b)(1); for ERP 2022, see the NOFA published October 31, 2023 (88 FR 74404-74419).

The increases in the amount of available funding and the payment limitation do not change how FSA will determine the percent payment factors used in the MASC payment calculation. As provided in the NOFA, if demand for MASC payments exceeds available funding, either MASC payments may be prorated, the payment limitation may be lowered, or both. The increase to the payment limitation does not change how a payment to a legal entity will be attributed to members who have a direct or indirect ownership interest in the legal entity; the provisions regarding attribution will be applied as provided in the NOFA.

Zach Ducheneaux,
Administrator, Farm Service Agency, and Executive Vice President, Commodity Credit Corporation.

[FR Doc. 2025-00215 Filed 1-6-25; 8:45 am]

BILLING CODE 3411-E2-P